DEPARTMENT OF AGRICULTURE

Forest Service

Nez Perce-Clearwater National Forest; Idaho; Forest Plan Revision for the Nez Perce-Clearwater National Forests

AGENCY: Forest Service, USDA.

ACTION: Extension of comment period.

SUMMARY: The Forest Service published a notice of intent to prepare an environmental impact statement in the Federal Register on July 15, 2014, initiating a 60-day comment period on the Forest Plan Revision for the Nez Perce-Clearwater National Forests. The closing date for that 60-day comment period is September 15, 2014; the Agency is extending the comment period for an additional 60 days.

DATES: Comments must be received by Nov. 14, 2014.

ADDRESSES: Comments may be sent via email to fpr_npclw@fs.fed.us, or via facsimile to 208-935-4275. Send or deliver written comments to Nez Perce-Clearwater National Forest Supervisor's Office, Attn: Forest Plan Revision, 903 3rd Street, Kamiah, ID 83536.

FOR FURTHER INFORMATION CONTACT: : Joyce Thompson, Forest Planning and Public Affairs Staff Officer, Nez Perce-Clearwater National Forests, 903 3rd Street, Kamiah, ID 83536, 208-983-4273 or at fpr_npclw@fs.fed.us. Information regarding this revision is also available on the Forest's Web site at: http://www.fs.usda.gov/detail/nezperceclearwater/landmanagement/planning/?cid=stelprdb5447338. Individuals who use telecommunication devices for the deaf (TDD) may call the Federal Information Relay Service (FIRS) at 1-800-877-8339 between 8 a.m. and 8 p.m., Eastern Time, Monday through Friday.

SUPPLEMENTARY INFORMATION: As directed by the National Forest Management Act, the USDA Forest Service is preparing the Nez Perce-Clearwater National Forests' revised land management plan (forest plan), which requires preparation of an environmental impact statement (EIS). The revised forest plan will supersede the existing forest plans that were approved by the Regional Forester in 1987. The existing forest plan will remain in effect until the revised forest plan takes effect. The Forest Service is asking for comments on the proposed action and the list of potential species of conservation concern.

The Forest Service has extended the comment period for an additional 60 days, and is now asking the public to send their comments in by Nov. 14, 2014 for them to be the most useful in development of alternatives. The full text of the proposed action, large-scale color maps, information on public meetings, and the list of potential species of conservation concern can be found on the Forest's Web site at http://www.fs.usda.gov/nezperceclearwater; follow the links for Forest Plan Revision. Hard copies of the proposed action are available by contacting 208-935-2513 or via email at fpr_npclw@fs.fed.us. Information gathered during this scoping period, as well as other information, will be used to prepare the draft plan and the draft EIS.

Dated: September 3, 2014.
Rick Brazell,
Forest Supervisor Nez Perce-Clearwater National Forests.

[FR Doc. 2014-21620 Filed 9-10-14; 8:45 am]

BILLING CODE 3411-15-P